DEPARTMENT OF HEALTH AND HUMAN SERVICES

National Institutes of Health

National Institute of Mental Health; Notice of Workshop

Notice is hereby given of a Services Workshop convened by the Interagency Autism Coordinating Committee (IACC) Services Subcommittee.

The purpose of the IACC Services Workshop: “Enhancing Supports for People with Autism and Their Families: Community Integration and the Changing Delivery System” is to discuss in a public forum innovative and best practices that are being developed and implemented around the country to address the services needs of people with autism and other disabilities and to help them integrate into their communities. Speakers include representatives of Federal, state, and local/private service agencies and providers. The information shared at this workshop will be used by the IACC in their planning for future updates to the IACC Strategic Plan for Autism Spectrum Disorder Research and to inform other activities of the committee. The workshop will be open to the public and accessible by live webcast and conference call.

Name of Committee: Interagency Autism Coordinating Committee (IACC).

Type of meeting: Services Workshop.

Date: September 15, 2011.

Time: 8:30 a.m. to 6 p.m. Eastern Time.

Agenda: To discuss in a public forum innovative and best practices that are being developed and implemented around the country to address the services needs of people with autism and other disabilities and to help them integrate into their communities.

Place: The Bethesda Marriott, 5151 Pooks Hill Road, Bethesda, MD 20814.

Conference Call Access: Phone number: 888-390-1050, Access code: 1840636.

Webcast Live: http://videocast.nih.gov/.

Cost: The meeting is free and open to the public.

Registration: http://www.acclaroresearch.com/oarc/9-15-11/. Pre-registration is recommended to expedite check-in. Seating in the meeting room is limited to room capacity and on a first come, first served basis.

Access: On-site parking available with validation.

Contact Person: Ms. Lina Perez, Office of Autism Research Coordination, Office of the Director, National Institute of Mental Health, NIH, 6001 Executive Boulevard, NSC, Room 8185a, Bethesda, MD 20892-9669, Phone: 301-443-6040, E-mail: IACCPublicInquiries@mail.nih.gov.

Please Note: This workshop will also be open to the public through a conference call. Members of the public who participate using the conference call phone number will be able to listen to the discussion but will not be heard. If you experience any technical problems with the conference call, please e-mail IACCTechSupport@acclaroresearch.com or call the IACC Technical Support Help Line at 443-680-0098.

Individuals who participate in person or by using these electronic services and who need special assistance, such as captioning of the conference call or other reasonable accommodations, should submit a request to the Contact Person listed on this notice at least 7 days prior to the meeting.

As a part of security procedures, attendees should be prepared to present a photo ID at the meeting registration desk during the check-in process. Pre-registration is recommended. Seating will be limited to the room capacity and seats will be on a first come, first served basis, with expedited check-in for those who are pre-registered. Please note: Online pre-registration will close by 5 p.m. the day before the meeting. After that time, registration will have to be done onsite the day of the meeting.

To access the webcast live on the Internet the following computer capabilities are required: (A) Internet Explorer 5.0 or later, Netscape Navigator 6.0 or later or Mozilla Firefox 1.0 or later; (B) Windows® 2000, XP Home, XP Pro, 2003 Server or Vista; (C) Stable 56k, cable modem, ISDN, DSL or better Internet connection; (D) Minimum of Pentium 400 with 256 MB of RAM (Recommended); (E) Java Virtual Machine enabled (Recommended).

Information about the IACC is available on the Web site: http://www.iacc.hhs.gov.

The schedule for the meeting is subject to change.

Dated: August 19, 2011.
Jennifer S. Spaeth,
Director, Office of Federal Advisory Committee Policy.

[FR Doc. 2011-21961 Filed 8-26-11; 8:45 am]

BILLING CODE 4140-01-P